ENVIRONMENTAL PROTECTION AGENCY

[OPP-2002-0292; FRL-7278-5]

Agricultural Worker Risk Assessment Process; Notice of Public Meeting

AGENCY: Environmental Protection Agency (EPA).

ACTION: Notice.

SUMMARY: EPA's Office of Pesticide Programs will hold a public seminar on the agricultural worker risk assessment decision process on October 29-30, 2002. The agenda is being developed and will be posted by October 15, 2002, on EPA's website at www.epa.gov/pesticides/. The following topics are being planned for presentation and discussion: Overview of the worker risk assessment process; agricultural handler risk assessment for selected crop/handler scenarios; post application risk assessment for selected crop/post application worker scenarios; and presentations relating to post exposure evaluation.

DATES: The meeting will be held on Tuesday, October 29, 2002, from 8:30 a.m. to 5 p.m., and on Wednesday, October 30, 2002, from 8:30 a.m. to 4:30 p.m.

ADDRESSES: The meeting will be held at the Georgetown University Conference Center, 3800 Reservoir Road, Washington, DC, in the Leavey Center (Entrance #1 to the Georgetown University Medical Center), Salon C. The telephone number is 202-687-3200.

FOR FURTHER INFORMATION CONTACT: Margie Fehrenbach, Office of Pesticide Programs, 7501C, Environmental Protection Agency, 1200 Pennsylvania Ave., NW., Washington, DC 20460; telephone number: 703-308-4775; fax number: 703-308-4776; e-mail address: Fehrenbach.Margie@epa.gov.

SUPPLEMENTARY INFORMATION:

I. General Information

A. Does this Action Apply to Me?

This action is directed to the public in general; however, persons may be interested who work in agricultural settings or persons who are concerned about implementation of the Federal Insecticide, Fungicide, and Rodenticide Act (FIFRA); the Federal Food, Drug, and Cosmetic Act (FFDCA); and the amendments to both of these major pesticide laws by the Food Quality Protection Act (FQPA); (Public Law 104-170) of 1996. Since other entities may also be interested, the Agency has not attempted to describe all the specific entities that may be affected by this action. If you have any questions regarding the applicability of this action to a particular entity, consult the person listed under FOR FURTHER INFORMATION CONTACT. Potentially affected entities may include, but are not limited to:

Agricultural workers and farmers; pesticide industry and trade associations; environmental, consumer and farmworker groups; pesticide users and growers; pest consultants; State, local and tribal governments; academia; public health organizations; food processors; and the public.

B. How Can I Get Copies of this Document and Other Related Information?

1. Docket. EPA has established an official public docket for this action under docket ID number OPP-2002-0292. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is 703-305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

Stakeholders from two of EPA's Federal advisory committees, the Pesticide Program Dialogue Committee (PPDC) and the Committee to Advise on Reassessment and Transition (CARAT), have expressed interest in better understanding the process followed by the Office of Pesticide Programs when developing agricultural worker risk assessments. EPA is planning two seminars to address these issues. The first seminar will focus on the inputs, decisions, calculations and end results of the worker risk assessment process for agricultural handlers and post applicators. Presentations will include information about occupational incident data bases and post exposure evaluations. There will also be presentations by the Task Forces for Agricultural Handlers Exposure and Agricultural Reentry. The public is invited to these seminars. Participation from the two advisory committees is also invited and represent the following sectors: Pesticide user, grower and commodity groups; industry and trade associations; environmental/public interest and farmworker groups; Federal, State and tribal governments; public health organizations; animal welfare; and academia.

III. How Can I Request to Participate in this Meeting?

This meeting will be open to the public. Opportunity will be provided for questions and comments by the public. Any person who wishes to file a written statement may do so before or after the meeting. These statements will become part of the permanent record and will be available for public inspection at the address listed under Unit I.B.1.

List of Subjects

Environmental protection, Agriculture, Agricultural workers, Chemicals, Foods, Pesticides, Pests, Risk assessment.

Dated: October 15, 2002.
Kathleen D. Knox,
Acting Director, Office of Pesticide Programs.

[FR Doc. 02-26712 Filed 10-16-02; 3:21 pm]

BILLING CODE 6560-50-S